Proclamation 9032 of September 30, 2013

National Energy Action Month, 2013

By the President of the United States of America

A Proclamation

To meet the challenges of the 21st century, we must work to ensure a clean, safe, and sustainable energy future. This National Energy Action Month, we can build on the progress we have made by recommitting to increasing our energy security, strengthening our economy, combatting climate change, and improving the environment.

As a Nation, we are taking control of our energy future, and my Administration remains committed to our long-term energy security. Today, we produce more oil than we have in 15 years and import less oil than we have in 20 years. Since I took office, we have more than doubled the amount of renewable electricity we generate from wind and quintupled the amount we generate from solar energy. We are building our first new nuclear power plants in decades, and we produce more natural gas than any other country. And we have done this while creating hundreds of thousands of good jobs and sending less carbon pollution into the environment than we have in nearly two decades.

While we have made significant progress, more work remains. The continuing cycle of spiking gasoline prices hurts American families and our businesses' bottom lines, and it reflects our economy's outsized demand for oil. To transition to a secure energy future, we must increase our production of clean energy, minimize waste and maximize efficiency, further reduce our oil imports, eliminate inefficient fossil fuel subsidies, and continue to develop more energy sources here at home. Because meeting global energy challenges requires international action, we must also engage with partners around the world to reduce carbon pollution, and we must build global markets for new advanced technologies. If we take these actions, we can curb climate change, save money for consumers, and use our resources to create good American jobs.

A clean energy economy has the potential to fuel economic growth for decades to come. But we must invest in the technologies of the future and fund breakthrough research to make these technologies better and cheaper. With the American spirit of innovation powering our progress, our Nation can lead the world in creating green jobs and technologies that are vital to both a clean energy future and the fight against climate change.

Years from now, our children may wonder if we did all we could to leave a safe, clean, and stable world for them to inherit. If we keep our eyes on the long arc of our future and commit to doing what this moment demands, the answer will be yes.

NOW, THEREFORE, I, BARACK OBAMA, President of the United States of America, by virtue of the authority vested in me by the Constitution and the laws of the United States, do hereby proclaim October 2013 as National Energy Action Month. I call upon the citizens of the United States to recognize this month by working together to achieve greater energy security, a more robust economy, and a healthier environment for our children.

IN WITNESS WHEREOF, I have hereunto set my hand this thirtieth day of September, in the year of our Lord two thousand thirteen, and of the Independence of the United States of America the two hundred and thirty-eighth.

[FR Doc. 2013-24386

Filed 10-3-13; 8:45 am]

Billing code 3295-F4